DEPARTMENT OF TRANSPORTATION

Federal Highway Administration

Environmental Impact Statement: Solano County, CA

AGENCY: Federal Highway Administration (FHWA), DOT.

ACTION: Notice of intent.

SUMMARY: The FHWA is issuing this notice to advise the public that an environmental impact statement will be prepared for a proposed highway project in Solano County, California.

FOR FURTHER INFORMATION CONTACT: Maiser Khaled, Chief District Operations—North, Federal Highway Administration, California Division, 980 Ninth Street, Suite 400, Sacramento, California 95814-2724, Telephone (916) 498-5020.

SUPPLEMENTARY INFORMATION: The FHWA, in cooperation with the California Department of Transportation (Caltrans), will prepare an environmental impact statement (EIS) for a proposed project to improve the Interchange of I-80, I-680, and State route (SR) 12 in Solano County, California. The I-80/I-680/SR-12 Interchange experiences traffic congestion due to regional traffic that includes the San Francisco Bay Area commuter traffic and recreational traffic traveling between the San Francisco Bay Area and Lake Tahoe. The objectives of the proposed project are to alleviate congestion, improve safety, and provide for the predicted traffic demand.

Alternatives that may be considered in the EIS include (1) taking no action; and (2) a range of alternatives that include two or more of the following components: reconfiguration and expansion of the existing I-80/I-680 interchange widening of I-80 (may include auxiliary lanes, high occupancy vehicle (HOV) lanes, collector/distributor roads, and viaducts), construction of an I-680 viaduct, construction of a new I-680 to SR-12 East connector roadway, reconstruction of the interchange on I-680 at Red Top Road, and on I-80 at Green valley/Suisun Valley Road, Abernathy Road and West Texas Street. Alternatives will include options for reconfiguration or relocation of the existing truck scales to improve access and egress.

Letters describing the proposed action and soliciting comments will be sent to appropriate Federal, State, and local agencies, and to private organizations and citizens who have previously expressed or are known to have an interest in this proposal. A public scoping meeting will be held on May 12, 2003, from 6 p.m. to 8:30 p.m. at Rodriguez High School, 5000 Red top Road, Fairfield, California. Additional public meetings will be held. In addition, a public hearing will be held. The draft EIS will be available for public and agency review prior to the public hearing. Public notice will be given of the exact time and location of the meetings and hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation of Federal programs and activities apply to this program.)

Dated: Issued on: May 5, 2003.
Maiser Khaled,
Chief—District Operations, North Sacramento, California.

[FR Doc. 03-11532 Filed 5-8-03; 8:45 am]

BILLING CODE 4910-22-M